POSTAL REGULATORY COMMISSION

[Docket Nos. MC2025-1676; Order No. 9162]

Competitive Postal Products

AGENCY: Postal Regulatory Commission.

ACTION: Notice.

SUMMARY: The Commission is recognizing a recent Postal Service filing requesting to remove International Surface Air Lift and two types of international negotiated service agreement products from the Competitive product list. This notice informs the public of the filing, invites public comment, and takes other administrative steps.

DATES: Comments are due: October 15, 2025.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction

II. Contents of Filing

III. Commission Action

IV. Ordering Paragraphs

I. Introduction

On September 5, 2025, pursuant to 39 U.S.C. 3642 and 39 CFR 3040.130 et seq., the Postal Service filed a request to remove Mail Classification Schedule (MCS) section 2325 International Surface Air Lift (ISAL) and two types of international negotiated service agreement (NSA) products that include ISAL in MCS sections 2510.21 and 2510.22 from the Competitive product list in the MCS.¹ In addition, pursuant to 39 U.S.C. 3632 and 39 CFR 3040.180 et seq., the Postal Service requests to make accompanying material changes to product descriptions for certain other Competitive products and Part D Country Price Lists for International Mail for which ISAL is listed as available in MCS sections 2300.2, 2510.2, 2510.6, and 4000. Id. at 2, n.1. The Postal Service intends for these proposed changes to take effect on January 18, 2026. Id. at 3.

¹ Request of the United States Postal Service to Remove International Surface Air Lift (ISAL) and Two Types of Negotiated Service Agreement Products that Include ISAL from the Competitive Product List and to Make Accompanying Classification Changes, September 5, 2025, at 1-2 (Request).

II. Contents of Filing

The Postal Service states that it proposes the removal of ISAL from the relevant MCS sections because ISAL is “very similar to” the International Priority Airmail (IPA) in MCS section 2320 as both offer service for bulk international mail. Id. at 2, 5. In addition, IPA is generally lower priced than ISAL, with the exception of the identical prices for IPA M-Bags and ISAL M-Bags. Id. at 5. Furthermore, IPA is available to approximately 215 destinations while ISAL is only available to approximately 115 destinations. Id. at 8.

The Postal Service states that the proposed removal of ISAL in MCS section 2325 and two types of international NSA products that include ISAL in MCS sections 2510.21 and 2510.22 satisfies the requirements in 39 CFR 3040.131(a) through (f) because: (a) it includes the names and classes of the products that are the subject of the request; (b) it includes a copy of Governors' Decision No. 25-4 supporting the request in Attachment 1; (c) it indicates that the Request proposes to remove products from the Competitive product list; (d) it indicates that the products to be removed are not a special classification within the meaning of 39 U.S.C. 3622(c)(10) for Market Dominant products or non-postal products, and the two international NSA products in MCS section 2510.21 and 2510.22 are products not of general applicability within the meaning of 39 U.S.C. 3632(b)(3) for Competitive products; (e) it includes a Statement of Supporting Justification in Attachment 2, which explains why the requested changes are not inconsistent with the applicable statutory and regulatory requirements; and (f) it includes a copy of the applicable sections of the MCS and the proposed changes in legislative format in Attachment 3. Id. at 3-5, Attachments 1-3.

The Postal Service states that the proposed removal of references to ISAL in MCS sections 2300.2, 2510.2, 2510.6, and 4000 satisfies the requirements in 39 CFR 3040.180 and 3040.181 because: (1) the Request is submitted no later than 30 days prior to implementing the proposed changes; (2) it includes a copy of the applicable sections of the MCS and the proposed changes in legislative format in Attachment 3; and (3) it provides supporting justification, which includes a description of, and rationale for, the proposed changes to product descriptions, explains why the changes will not result in the violation of 39 U.S.C. 3633 and 39 CFR part 3035 for the Competitive products at issue, and describes the likely impact that the changes will have on users of the product and on competitors. Id. at 5-9, Attachment 3.

III. Commission Action

The Commission establishes Docket No. MC2025-1676 for consideration of matters raised by the Request.

The Commission invites comments on whether the Postal Service's filing is consistent with 39 U.S.C. 3633 and 3642 and 39 CFR 3040.130, 3040.131, 3040.132, 3040.180, and 3040.181. Comments are due no later than October 15, 2025. The public portions of the filings can be accessed via the Commission's website (https://www.prc.gov).

The Commission appoints Samuel Robinson to represent the interests of the general public (Public Representative) in this docket, pursuant to 39 CFR 3010.101(q)(3). The Public Representative does not represent any individual person, entity, or particular point of view, and, when Commission attorneys are appointed, no attorney-client relationship is established.

IV. Ordering Paragraphs

It is ordered:

1. The Commission establishes Docket No. MC2025-1676 for consideration of matters raised by the Postal Service's Request.

2. Pursuant to 39 CFR 3010.101(q)(3), Samuel Robinson is appointed to serve as an officer of the Commission to represent the interests of the general public in this proceeding (Public Representative).

3. Comments are due no later than October 15, 2025.

4. The Secretary shall arrange for publication of this Order in the Federal Register.

By the Commission.
Erica A. Barker,
Secretary.

[FR Doc. 2025-17567 Filed 9-10-25; 8:45 am]

BILLING CODE 7710-FW-P